DEPARTMENT OF ENERGY

Federal Energy Regulatory Commission

18 CFR Parts 50 and 380

[Docket No. AD07-9-000]

Filing Applications for Permits to Site Interstate Electric Transmission Facilities; Notice of Workshops on Electric Transmission Siting Rule

January 26, 2007.

AGENCY: Federal Energy Regulatory Commission, Department of Energy.

ACTION: Final rule: Notice of workshops.

SUMMARY: The Federal Energy Regulatory Commission (Commission) will hold a series of workshops on Commission Order No. 689, the final rule for regulations for filing applications for permits to site interstate electric transmission facilities. The Commission is convening these workshops to assist stakeholders in understanding the implementation of the final rule.

DATES: Conference dates: February 13, 2007, March 6, 2007, March 7, 2007, March 13, 2007 and March 14, 2007.

FOR FURTHER INFORMATION CONTACT:

Jeff Wright, Federal Energy Regulatory Commission, 888 First Street, NE., Washington, DC 20426. (202) 502-8617.

John Snagel, Federal Energy Regulatory Commission, 888 First Street, NE., Washington, DC 20426. (202) 502-8756.

SUPPLEMENTARY INFORMATION: This series of workshops address issues raised in a final rulemaking issued in Docket No. RM06-12-000 (70 FR 75592, December 20, 2005).

The Office of Energy Projects (OEP) will host a series of workshops on Order No. 689, the final rule for Regulations for Filing Applications for Permits to Site Interstate Electric Transmission Facilities which was issued on November 16, 2006, effective February 2, 2007.¹ Order No. 689 stated, in paragraph 1, that the Commission would convene conferences to assist stakeholders in understanding the implementation of this rule.

¹ Regulations for Filing Applications for Permits to Site Interstate Electric Transmission Facilities, Order No. 689, 71 FR 69440 (December 1, 2006), FERC Stats. & Regs. ¶ 31,234 (2006).

The Commission staff will be conducting the workshops and the date, time and locations are described below. The workshops are free of charge and are open to all interested stakeholders. We are inviting federal agencies, state and local agencies, tribes, non-governmental organizations, and other interested stakeholders.

Date | Location
Tuesday, February 13, 2007, 2 p.m.-5 p.m. (CST) | Chicago, Illinois, Sheraton Gateway Suites Chicago O'Hare, 6501 North Mannheim Road, Rosemont, IL 60018. 847-699-3505. http://www.starwoodhotels.com/sheratonl.
Tuesday, March 6, 2007, 2 p.m.-5 p.m. (EST) | Boston, Massachusetts, Hilton Boston Logan Airport, 85 Terminal Road, Boston, MA 02128. 617-568-6700. http://www1.hilton.com.
Wednesday, March 7, 2007, 2 p.m.-5 p.m. (EST) | Atlanta, Georgia, Holiday Inn Select, 450 Capitol Avenue, Atlanta, GA 30312-2802. 404-591-2000. http://www.hiatlanta.com.
Tuesday, March 20, 2007, 2 p.m.-5 p.m. (PST) | Portland, Oregon, Holiday Inn, 8439 NE Columbia Blvd, Portland, Oregon 97220. 503-256-5000. http://www.mainstreetmediagroup.com/87708A/cd.html.
Wednesday, March 21, 2007, 2 p.m.-5 p.m. (MST) | Phoenix, Arizona, Phoenix Airport Marriott, 1101 North 44th Street, Phoenix, Arizona. 602-273-7373. http://www.marriott.com/phxap.

The workshop will consist of the Commission staff making a presentation of approximately one hour that would review the origin, the issues raised and the process approved in the final rule. Following the Commission staff presentation, there will be a question and answer period for interested stakeholders.

If you plan to attend, please respond by e-mail at electricoutreach@ferc.gov or by facsimile to “Electric Transmission Rule Outreach” at 202-219-0205. Please include in the response the names, addresses, and telephone numbers of all attendees from your organization.

If you have any questions, you may contact Jeff Wright at 202-502-8617 or John Schnagl at 202-502-8756.

Magalie R. Salas,
Secretary.

[FR Doc. E7-1905 Filed 2-6-07; 8:45 am]

BILLING CODE 6717-01-P